DEPARTMENT OF TRANSPORTATION

Federal Aviation Administration

14 CFR Part 39

[Docket No. FAA-2018-0723; Product Identifier 2018-NE-17-AD; Amendment 39-19350; AD 2018-16-10]

RIN 2120-AA64

Airworthiness Directives; GE Aviation Czech s.r.o. Turboprop Engines

AGENCY: Federal Aviation Administration (FAA), DOT.

ACTION: Final rule; request for comments.

SUMMARY: We are adopting a new airworthiness directive (AD) for certain GE Aviation Czech H80-200 turboprop engines. This AD requires replacing the beta switch and adjusting the engine push-pull control to prevent the propeller governor control from going to a negative thrust position. This AD was prompted by an accident involving an Aircraft Industries (AI) L 410 UVP-E20 airplane caused by one propeller going to a negative thrust position during the landing approach. We are issuing this AD to address the unsafe condition on these products.

DATES: This AD is effective September 12, 2018.

The Director of the Federal Register approved the incorporation by reference of a certain publication listed in this AD as of September 12, 2018.

We must receive comments on this AD by October 12, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC, 20590.

• Hand Delivery: U.S. Department of Transportation, Docket Operations, M-30, West Building Ground Floor, Room W12-140, 1200 New Jersey Avenue SE, Washington, DC, 20590, between 9 a.m. and 5 p.m., Monday through Friday, except Federal holidays.

For service information identified in this final rule, contact GE Aviation Czech s.r.o., Beranových 65, 199 02 Praha 9—Letňany, Czech Republic; phone: +420 222 538 111; fax: +420 222 538 222. You may view this service information at the FAA, Engine and Propeller Standards Branch, 1200 District Avenue, Burlington, MA 01803. For information on the availability of this material at the FAA, call 781-238-7759. It is also available on the internet at http://www.regulations.gov by searching for and locating Docket No. FAA-2018-0723.

Examining the AD Docket

You may examine the AD docket on the internet at http://www.regulations.gov by searching for and locating Docket No. FAA-2018-0723; or in person at Docket Operations between 9 a.m. and 5 p.m., Monday through Friday, except Federal holidays. The AD docket contains this final rule, the mandatory continuing airworthiness information (MCAI), the regulatory evaluation, any comments received, and other information. The address for Docket Operations (phone: 800-647-5527) is listed above. Comments will be available in the AD docket shortly after receipt.

FOR FURTHER INFORMATION CONTACT: Wego Wang, Aerospace Engineer, ECO Branch, FAA, 1200 District Avenue, Burlington, MA 01803; phone: 781-238-7134; fax: 781-238-7199; email: wego.wang@faa.gov.

SUPPLEMENTARY INFORMATION:

Discussion

The European Aviation Safety Agency (EASA), which is the Technical Agent for the Member States of the European Community, has issued EASA AD 2018-0075, dated April 5, 2018 (referred to after this as “the MCAI”), to address an unsafe condition for the specified products. The MCAI states:

A fatal accident of an L 410 UVP-E20 aeroplane has been reported. Preliminary investigation determined that there was an annunciation of Beta mode on right hand engine, that the propeller went inadvertently behind the fine pitch position and reached a negative thrust position, and that the pitch lock system did not intervene.

This event occurred on approach at a speed and altitude which did not allow the crew to recover this control system malfunction.

This condition, if not corrected, could lead to reduced control or loss of control of the aeroplane.

To address this unsafe condition, GE Aviation Czech issued the SB, providing modification instructions.

For the reason described above, this [EASA] AD requires modification of the engine. Addressing the same unsafe condition at aeroplane level, EASA also issued AD 2018-0057, requiring modification of affected AI L 410 UVP-E20 and L 410 UVP-E20 CARGO aeroplanes, if equipped with GE Aviation H80-200 engines and Avia Propeller AV 725 propellers.

You may obtain further information by examining the MCAI in the AD docket on the internet at http://www.regulations.gov by searching for and locating Docket No. FAA-2018-0723.

Related Service Information Under 1 CFR Part 51

We reviewed GE Aviation Czech Service Bulletin (SB) SB-H80-76-00-00-0036, Revision No. 02, dated March 29, 2018. The SB describes procedures for inspecting and adjusting engine push-pull control, part number (P/N) M601-76.3, and replacing beta switch, P/N P-S-2, with beta switch, P/N P-S-2A. This service information is reasonably available because the interested parties have access to it through their normal course of business or by the means identified in the ADDRESSES section.

FAA's Determination

This product has been approved by EASA, and is approved for operation in the United States. Pursuant to our bilateral agreement with the European Community, EASA has notified us of the unsafe condition described in the MCAI and service information referenced above. We are issuing this AD because we evaluated all the relevant information provided by EASA and determined the unsafe condition described previously is likely to exist or develop in other products of the same type design.

AD Requirements

This AD requires adjusting the engine push-pull control and replacing the beta switch to prevent the propeller governor control going to a negative thrust position.

FAA's Justification and Determination of the Effective Date

No domestic operators use this product. Therefore, we find good cause that notice and opportunity for prior public comment are unnecessary. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0723 and Product Identifier 2018-NE-17-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 0 engines installed on airplanes of U.S. registry.

We estimate the following costs to comply with this AD:

Estimated Costs
Action | Labor cost | Parts cost | Cost per product | Cost on U.S. operators
Inspection, adjustment of the engine push-pull control, and replacement of beta switch | 8 work-hours × $85 per hour = $680 | $1,916 | $2,596 | $0

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-16-10 GE Aviation Czech s.r.o. (Type Certificate previously held by WALTER Engines a.s., Walter a.s., and MOTORLET a.s.): Amendment 39-19350; Docket No. FAA-2018-0723; Product Identifier 2018-NE-17-AD.

(a) Effective Date

This AD is effective September 12, 2018.

(b) Affected ADs

None.

(c) Applicability

This AD applies to GE Aviation Czech H80-200 turboprop engines with propeller governor part number, (P/N) P-W22-1, and Avia Propeller AV-725 propellers installed. These engines are installed on Aircraft Industries (AI) L 410 UVP-E20 and L 410 UVP-E20 CARGO airplanes.

(d) Subject

Joint Aircraft System Component (JASC) Code 7600, Engine Controls.

(e) Unsafe Condition

This AD was prompted by an accident on an AI L 410 UVP-E20 airplane caused by one propeller going to a negative thrust position during the landing approach. We are issuing this AD to require engine modification to prevent asymmetric thrust. The unsafe condition, if not addressed, could result in failure of the beta switch, loss of engine thrust control, and reduced control of the airplane.

(f) Compliance

Comply with this AD within the compliance times specified, unless already done.

(g) Required Actions

Within 25 flight hours, 20 flight cycles, or 30 days, whichever occurs first after the effective date of this AD, inspect and adjust the engine push-pull control, P/N M601-76.3, and replace beta switch, P/N P-S-2, with beta switch, P/N P-S-2A, in accordance with paragraphs 1.6. and 1.7. of GE Aviation Czech Service Bulletin (SB) SB-H80-76-00-00-0036, Revision No. 02, dated March 29, 2018.

(h) Installation Prohibition

After the effective date of this AD:

(1) Do not install beta switch, P/N P-S-2, on any engine.

(2) Do not install a GE Aviation Czech H80-200 turboprop engine on any airplane unless the required actions in paragraph (g) of this AD have been complied with. This engine installation prohibition does not apply to an engine removal and subsequent re-installation on the same airplane during an airplane maintenance visit.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. You may email your request to: ANE-AD-AMOC@faa.gov.

(2) Before using any approved AMOC, notify your appropriate principal inspector, or lacking a principal inspector, the manager of the local flight standards district office/certificate holding district office.

(j) Related Information

(1) For more information about this AD, contact Wego Wang, Aerospace Engineer, ECO Branch, FAA, 1200 District Avenue, Burlington, MA 01803; phone: 781-238-7134; fax: 781-238-7199; email: wego.wang@faa.gov.

(2) Refer to European Aviation Safety Agency AD 2018-0075, dated April 5, 2018, for more information. You may examine the European Aviation Safety Agency AD in the AD docket on the internet at http://www.regulations.gov by searching for and locating it in Docket No. FAA-2018-0723.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GE Aviation Czech Service Bulletin SB-H80-76-00-00-0036, Revision No. 02, dated March 29, 2018.

(ii) Reserved.

(3) For service information identified in this AD, contact GE Aviation Czech s.r.o., Beranových 65, 199 02 Praha 9—Letňany, Czech Republic; phone: +420 222 538 111; fax: +420 222 538 222.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on August 21, 2018.
Karen M. Grant,
Acting Manager, Engine and Propeller Standards Branch, Aircraft Certification Service.

[FR Doc. 2018-18575 Filed 8-27-18; 8:45 am]

BILLING CODE 4910-13-P